DEPARTMENT OF ENERGY

Federal Energy Regulatory Commission

[Docket No. RP03-194-000]

Texas Eastern Transmission, LP; Notice of Tariff Filing

December 11, 2002.

Take notice that on December 6, 2002, Texas Eastern Transmission, LP (Texas Eastern) tendered for filing as part of its FERC Gas Tariff, Seventh Revised Volume No. 1, the revised tariff sheets listed in Appendix A of the filing, effective January 1, 2003.

Texas Eastern states that the purpose of this filing is to comply with the Order on Investigation issued by the Commission in Docket No. RP00-535-003 on November 22, 2002 [101 FERC ¶ 61,215 (2002)] (November 22 Order) and the Order on Remand in Docket No. RM98-10-011 (Remand Order).

Texas Eastern states that it is hereby submitting tariff revisions that comply with such orders and, in particular, eliminate (i) provisions that preclude long-term shippers from having and exercising a ROFR when they terminate a contract, and (ii) provisions relating to the term matching cap.

Texas Eastern states that copies of its filing have been mailed to all affected customers of Texas Eastern and interested state commissions, as well as to all parties listed on the Official Service List compiled by the Secretary of the Commission in Docket No. RP00-535.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-31739 Filed 12-17-02; 8:45 am]

BILLING CODE 6717-01-P